NATIONAL INDIAN GAMING COMMISSION

Notice of Intent To Prepare an Environmental Impact Statement and of a Scoping Meeting for the Lytton Rancheria San Pablo Casino Project, San Pablo, CA

AGENCY: National Indian Gaming Commission.

ACTION: Notice of intent.

SUMMARY: The notice advises the public that the National Indian Gaming Commission (NIGC), in cooperation with the Lytton Rancheria of California (“Lytton Rancheria”), intends to gather information necessary for preparing an Environmental Impact Statement (EIS) for a proposed casino project to be located in Contra Costa County, California. The purpose of the proposed action is to help address the socio-economic needs of the Lytton Rancheria. Details of the proposed action and location are provided below in the Supplemental Information section. The scoping process will include notifying the general public and federal, state, local, and tribal agencies of the proposed action. This notice also announces a public scoping meeting that will be held for the proposed action. The purpose of scoping is to identify public and agency concerns, and alternatives to be considered in the EIS.

DATES: Written comments on the scope of the EIS should arrive by August 16, 2004. The public hearing will be held on July 30, 2004, from 7 p.m. to 9 p.m., or until the last public comment is received.

ADDRESSES: Written comments on the scope of the EIS should be addressed to: Christine Nagle, NEPA Coordinator, National Indian Gaming Commission, 1441 L Street NW., 9th Floor, Washington, DC 20005, telephone (202) 632-7003. Please include your name, return address, and the caption: “DEIS Scoping Comments, Lytton Rancheria Casino Project”, on the first page of your written comments.

The public hearing will be co-hosted by the NIGC and the Lytton Rancheria. The meeting location is Maple Hall, 13831 San Pablo Avenue, Building #4, San Pablo, CA 94806.

FOR FURTHER INFORMATION CONTACT: For general information on NEPA review procedures or status of the NEPA review, contact Christine Nagle, NIGC NEPA Coordinator, 202-632-7003.

SUPPLEMENTARY INFORMATION: The proposed federal action is the approval of a gaming management contract between the Lytton Rancheria and California Indian Gaming Management, LLC (“CIGM”). The approval of the gaming management contract would result in the development of a casino and supporting facilities. The facility will be managed by CIGM on behalf of the Lytton Rancheria, pursuant to the terms of a gaming management contract. The proposed development would take place on an approximately 9.5 acre site (the project site) that is held in trust by the United States for the benefit of the Lytton Rancheria. The project site is located in the City of San Pablo in Contra Costa County, and within one mile of Interstate 80. Surrounding land uses are urban, and include a hospital, offices, restaurants, and retail. In addition to the proposed action, a reasonable range of alternatives, including a no action alternative will be analyzed in the EIS.

The Lytton Rancheria consists of approximately 259 members. It is governed by a tribal council, consisting of seven members, under a constitution that was passed by vote of the members on August 30, 1996.

The NIGC will serve as lead agency for compliance with the National Environmental Policy Act (NEPA).

Public Comment Solicitation: Written comments pertaining to the proposed action will be accepted throughout the EIS planning process. However, to ensure proper consideration in preparation of the draft EIS, scoping comments should be received by August 16, 2004. The draft EIS is planned for publication and distribution towards the end of 2004.

Individual commenters may request confidentiality. If you wish us to withhold your name and/or address from public review or from disclosure under the Freedom of Information Act, you must state this prominently at the beginning of your written comment. Such requests will be honored to the extent allowed by law. Anonymous comments will not, however, be considered. All submissions from organizations or businesses, and from individuals identifying themselves as representatives or officials of organizations or businesses, will be made available for public inspection in their entirety.

Authority: This notice is published pursuant to Sec. 1503.1 of the Council of Environmental Quality Regulations (40 CFR, Part 1500 through 1508 implementing the procedural requirements of the NEPA of 1969, as amended (42 U.S.C. 4371 et seq.)), and the NIGC NEPA Procedures Manual.

Dated: July 8, 2004.
Philip N. Hogen,
Chairman.

[FR Doc. 04-15961 Filed 7-13-04; 8:45 am]

BILLING CODE 7565-01-P